FEDERAL RETIREMENT THRIFT INVESTMENT BOARD

Sunshine Act Meeting Notice

Time and Date: 9 a.m. (EDT), April 28, 2003.

Place: 4th Floor, Conference Room, 1250 H Street, NW., Washington, DC.

Status: Parts will be open to the public and parts closed to the public.

Matters To be Considered:

Parts Open to the Public

1. Approval of minutes of the March 31, 2003, Board member meeting.

2. Executive Director's report, including the following items:

a. Legislative report,

b. Investment report, and

c. Participation information.

3. Presentation of audited financial statements by Ernst and Young.

4. Status of new recordkeeping system.

Parts Closed to the Public

5. Discussion of litigation matters.

6. Discussion of personnel matters.

CONTACT PERSON FOR MORE INFORMATION: Thomas J. Trabucco, Director, Office of External Affairs, (202) 942-1640.

Elizabeth S. Woodruff,
Secretary to the Board, Federal Retirement Thrift Investment Board.

[FR Doc. 03-9736 Filed 4-16-03; 2:07 pm]

BILLING CODE 6760-01-M